DEPARTMENT OF AGRICULTURE

Forest Service

Plumas National Forest, Feather River Ranger District; California; On Top Hazardous Fuels Reduction Project

AGENCY: Forest Service, USDA.

ACTION: Notice of intent to prepare an environmental impact statement.

SUMMARY: The On Top Hazardous Fuels Reduction Project would construct a Defensible Fuel Profile Zone (DFPZ) across approximately 4,650 acres on National Forest System (NFS) land to provide strategic locations for the suppression of high intensity wildfires. Group selection harvest would be implemented over an estimated 102 acres on NFS land to assist in regeneration of healthy, shade-intolerant species and to move the landscape towards an uneven-aged, multistory, fire-resilient forest. Prescriptions would treat surface, ladder, and crown fuels to reduce risk from wildfires to rural communities and forest resources, improve forest health, and contribute to the economic stability of rural communities.

DATES: Comments concerning the scope of the analysis must be received by 45 days from the date of publication in the Federal Register. The draft environmental impact statement is expected April 2011 and the final environmental impact statement is expected August 2011.

ADDRESSES: Send written comments to 875 Mitchell Avenue, Oroville, CA 95965. Comments may also be sent via e-mail to Comments-pacificsouthwest-plumas-featherrivr@fs.fed.us, or via facsimile to (530) 532-1210.

FOR FURTHER INFORMATION CONTACT: Mary Webb-Marek at (530) 534-6500; mwebbmarek@fs.fed.us. Individuals who use telecommunication devices for the deaf (TDD) may call the Federal Information Relay Service (FIRS) at 1-800-877-8339 between 8 a.m. and 8 p.m., Eastern Time, Monday through Friday.

SUPPLEMENTARY INFORMATION: The USDA Forest Service is designing the On Top Hazardous Fuels Reduction Project on National Forest System land in compliance with the standards and guidelines in the Plumas National Forest Land and Resource Management Plan (1988), as amended by the Herger-Feinstein Quincy Library Group (HFQLG) Final Supplemental Environmental Impact Statement (FSEIS) and Record of Decision (ROD) (1999, 2003), legislatively extended from 2009 to 2012, per the Consolidated Appropriations Act (H.R. 2754), as amended by the Sierra Nevada Forest Plan Amendment FSEIS and ROD (2004).

Additionally, in December 2007, the Consolidated Appropriations Act, 2008 (H.R. 2764), stated that the 2003-adopted Healthy Forests Restoration Act (HFRA: Pub. L. 108-148) applies to HFQLG projects. The Healthy Forests Restoration Act (HFRA) of 2003 (16 U.S.C. at 1611-6591) emphasizes public collaboration processes for developing and implementing hazardous fuel reduction projects on “at-risk” National Forest System land, and also provides other authorities and direction to help restore healthy forests. The On Top Hazardous Fuels Reduction Project's Scoping Packet is available upon request in hardcopy at the Feather River Ranger District, 875 Mitchell Avenue, Oroville, CA, 95965, as well as in Portable Document Format (pdf) on the Plumas National Forest Web site, at http://fs.usda.gov/plumas.

Purpose and Need for Action

The USDA Forest Service proposes to 1. Reduce the risk to rural communities and forest resources from wildfires by modifying hazardous fuel conditions; 2. Improve forest health by initiating a conversion to an uneven-aged, multistory, fire-resilient forest by implementing group selection harvests, and; 3. Contribute to the economic stability of rural communities near Bucks Lake and surrounding areas. The On Top Hazardous Fuels Reduction Project responds to the need for reducing surface fuel loading (needle litter, downed branches and logs) and low and mid-level tree densities, while modifying forest structure homogeneity and enhancing vegetative species diversity. The true fir forest type dominates much of the project area and a large portion of the landscape is represented by even-aged white fir/red fir with pine species as a minor component.

There is a need for increasing the amount of pine in the project area to enhance vegetative species diversity across the landscape. Additionally, white pine blister rust (Cronartium ribicola), a disease specific to the five-needled pines such as sugar pine, and root disease (Heterobasidium spp.) are normally endemic to the project area, but have become more prevalent and contribute to impaired growth and significant decay of existing trees. Communities within Plumas County and adjacent counties are reliant upon natural resource based industries and experience high seasonal fluctuation in employment. There is a need for employment and forest products produced by the implementation of the On Top Project, vital for those rural communities isolated from urban job markets.

Proposed Action

The Feather River Ranger District of the Plumas National Forest proposes in 2012 to construct a Defensible Fuel Profile Zone (DFPZ) and improve forest health on 4,650 acres in the Bucks Lake area, between Soapstone Hill and Mt. Ararat, by mechanically thinning and biomass removal 2,220 acres (2,105 acres ground-based systems and 115 acres cable systems); hand thinning, piling and burning 1,010 acres; mechanically piling and burning 255 acres; masticating 215 acres; underburning 3,020 acres (800 acres underburn only and 2,220 acres follow-up underburn for mechanically thinned areas if necessary); group selection harvest 102 acres (ground-based systems); group selection site preparation 102 acres (mechanical piling and burning); group selection reforestation 102 acres; group selection release 102 acres (grubbing and/or cutting); no treatment 150 acres (currently meets desired conditions); and performing associated road work including 6.70 miles of temporary road construction and 6.40 miles of decommissioning temporary roads. The DFPZ is designed to occur along main travel corridors and ridges to compliment strategic control points in the event of a wildfire. Prescribed burn units are designed to use existing road systems to alleviate the need for ground disturbing control lines. Fuels treatments would follow Agee's four basic principles of effective fuels reduction: reduction of surface fuels, increase in canopy base heights, decrease in crown density and retention of large fire-resistant trees (Agee and Skinner, 2005).

Possible Alternatives

The Feather River Ranger District of the Plumas National Forest proposes in 2012 an alternative that would solely address the need to reduce existing surface fuel loading (needle litter, downed branches, and logs) and low and mid-level tree densities. This alternative would construct a Defensible Fuel Profile Zone (DFPZ) across approximately 4,650 acres on National Forest System (NFS) land to provide strategic locations for the suppression of high intensity wildfires, in compliance with Forest Service Region 5 (California) Guidance on Court Order for a Non-commercial Funding Alternative (Memorandum and Order dated 11/04/2009, for Case 2:05-cv-00205-MCE-GGH [sec. C]).

Responsible Official

Plumas National Forest Supervisor, Alice B. Carlton is the Responsible Official.

Nature of Decision To Be Made

The Responsible Official will decide to implement this proposal, implement an alternative that moves the area towards the desired conditions, or not implement any proposed land management activities at this time.

Preliminary Issues

The Forest Service has identified the following preliminary issues including potential effects to aquatic, riparian and water quality, botanical resources, economic feasibility, heritage resources, scenic/visuals/recreation (Pacific Crest Trail), soil resources, watershed condition and wildlife habitat.

Permits or Licenses Required

Smoke permits are required from the Northern Sierra Air Quality Management District prior to any understory or pile burning. Sorting and removing Forest by-products from the site to commercial off-Forest vendors would involve some form of permits for road use, right-of-way, or use of private lands for landings and access.

Scoping Process

This notice of intent initiates the scoping process, which guides the development of the environmental impact statement. A public meeting will be held at the Feather River District Office in Oroville, California on Tuesday, February 1, 2011 from 4:30 p.m. to 7 p.m.

It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered; however. There will be an objection process before the final decision is made and after the final EIS is mailed (36 CFR part 218). In order to be eligible to file an objection to the preferred alternative identified in the final EIS, specific written comments related to the project must be submitted during scoping or any other periods public comment is specifically requested on this EIS (36 CFR 218.5).

Dated: January 19, 2011.
Alice B. Canton,
Forest Supervisor.

[FR Doc. 2011-3658 Filed 2-18-11; 8:45 am]

BILLING CODE 3410-11-M